DEPARTMENT OF AGRICULTURE

Animal and Plant Health Inspection Service

[Docket No. APHIS-2010-0125]

Secretary's Advisory Committee on Animal Health; Meetings

AGENCY: Animal and Plant Health Inspection Service, USDA.

ACTION: Notice of public meetings.

SUMMARY: This is a notice to inform the public of three upcoming meetings of the Secretary's Advisory Committee on Animal Health. The meetings are being organized by the Animal and Plant Health Inspection Service to discuss matters of animal health, including the pending proposed rule implementing USDA's traceability framework and establishing an aquaculture subcommittee.

DATES: The meetings will be held March 4, 2011, May 13, 2011, and July 15, 2011 from noon to 5 p.m. (eastern time) each day.

ADDRESSES: Each meeting will be conducted as a teleconference. Opportunities for public participation are described in the Supplementary Information section of this notice.

FOR FURTHER INFORMATION CONTACT: Mr. Michael R. Doerrer, Chief Operating Officer, Veterinary Services, APHIS, USDA, 4700 River Road, Unit 37, Riverdale, MD 20737; e-mail: SACAH.Management@aphis.usda.gov.

SUPPLEMENTARY INFORMATION: The Secretary's Advisory Committee on Animal Health (the Committee) advises the Secretary of Agriculture on means to prevent, conduct surveillance on, monitor, control, or eradicate animal diseases of national importance. In doing so, the Committee will consider public health, conservation of natural resources, and the stability of livestock economies. Among the key animal health issues the Committee will help the Secretary evaluate will be animal disease traceability.

Animal disease traceability will be the primary discussion topic at the meeting on March 4, 2011. APHIS has spent much of the past year developing a framework for animal disease traceability in the United States. Through the framework, APHIS will implement a flexible yet coordinated approach to animal disease traceability that embraces the strengths and expertise of States, Tribes, and producers and empowers them to find and use the traceability approaches that work best for them.

APHIS has conducted extensive outreach on the traceability framework and continues to seek input by using the Committee. We are developing the proposed rule and the traceability performance standards collaboratively and transparently. This helps us ensure that practical animal disease traceability options evolve.

Additional details regarding each meeting, including the preliminary and final agendas, will be posted on the Committee's Web site at http://www.aphis.usda.gov/animal_health/acah/ in advance of each meeting. Copies of agendas may also be obtained from the person listed under FOR FURTHER INFORMATION CONTACT at the beginning of this notice.

Public Participation

All meetings will be open to the public, although public participants will be joined to the call in “observation” or “listen only” mode. Members of the public who wish to participate in a teleconference must notify the Committee by sending an e-mail through an access portal on the Committee's Web site or by e-mailing the Committee directly at SACAH.Management@aphis.usda.gov. In your e-mail, please provide your name and organizational affiliation (if any) and identify the meeting(s) you wish to join. The Committee will reply with a telephone number and participant pass code that will allow you to join the meeting.

Questions and written statements for the first meeting on March 4, 2011, may be submitted by or before March 1, 2011, for the Committee's consideration. For the meetings to be held in May and July, questions and written statements may be submitted up to 5 days before those meetings. Questions and written statements may be sent via e-mail to SACAH.Management@aphis.usda.gov or mailed to the person listed under FOR FURTHER INFORMATION CONTACT at the beginning of this notice. Statements may also be filed with the Committee after the meeting by sending them to SACAH.Management@aphis.usda.gov.

This notice of meeting is given pursuant to section 10 of the Federal Advisory Committee Act (5 U.S.C. App. 2).

Done in Washington, DC this 15th day of February 2011.
Gregory Parham,
Acting Administrator, Animal and Plant Health Inspection Service.

[FR Doc. 2011-3728 Filed 2-17-11; 8:45 am]

BILLING CODE 3410-34-P